FEDERAL COMMUNICATIONS COMMISSION

Notice of Public Information Collection Being Reviewed by the Federal Communications Commission, Comments Requested

February 2, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a valid OMB control number.

DATES: Persons wishing to comments on this information collection should submit comments on or before April 12, 2010 If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send themto: PRA@fcc.gov.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0856.

Title: Universal Service - Schools and Libraries Universal Service Support Program Reimbursement Forms.

Form No.: FCC Forms 472, 473 and 474.

Type of Review: Extension of a currently approved collection.

Respondents: Business or other for-profit, not-for-profit institutions, and state, local or tribal government.

Number of Respondents: 22,200 respondents; 97,100 responses.

Estimated Time Per Response: 1 - 1.5 hours.

Frequency of Response: On occasion and annual reporting requirements, third party disclosure requirement.

Obligation to Respond: Required to obtain or retain benefits. Statutory authority for this collection of information is contained in 47 U.S.C. sections 1, 4(i), 4(j), 201-205, 214, 254, 312(d), 312(f), 403 and 503(b).

Total Annual Burden: 143,150 hours.

Privacy Act Impact Assessment: N/A.

Nature and Extent of Confidentiality: The Commission does not request that respondents submit confidential information to the Commission. If the applicants wish to submit information that they believe is confidential, they may request confidential treatment of such information under 47 CFR 0.459 of the Commission's rules.

Need and Uses: The Commission will submit this expiring information collection after this 60 day comment period to the Office of Management and Budget (OMB) in order to obtain the full three year clearance from them. There is no change to the reporting and or third party disclosure requirements. The Commission is reporting a 9,500 hour increase in burden which is due to an increase in the number of respondents based on the actual number of participants in the E-rate program. For the FCC Form 473, the Commission reduced the number of respondents to 5,000 based on the actual number of service providers filing FCC Form 473 in funding year 2008. There was no change in burden for FCC Form 474.

The FCC Form 472 is used to establish a process and procedure for an eligible entity to seek reimbursement from the service provider for the discounts on services paid in full. After receiving an invoice from the service provider, together with a FCC Form 472, the administrator (USAC - Universal Service Administrative Company) is able to verify the eligible service and approved amounts that should be reimbursed and can make the appropriate payment to the service provider. The FCC Form 472 is also used to ensure that each service provider that provided discounted services within the current funding year for which it submits an invoice to USAC and that invoices submitted from service providers for the cost of discounted eligible services do not exceed the amount that has been approved.

FCC Form 473 is used to establish that the participating service provider is eligible to participate in the E-rate program and to confirm that the invoice forms submitted by the service provider are in compliance with the E-rate rules. The FCC Form 473 is also used by USAC to assure that the dollars paid out by the universal service fund go to eligible providers.

FCC Form 474 is to establish the process and procedure for a service provider to seek payment for the discounted costs of services it provided to billed entities for eligible services. After receiving an invoice from the service provider, together with a FCC Form 474, USAC is able to verify that the eligible and approved amounts can be paid. The FCC Form 474 is also used to ensure that each service provider has provided discount services with the current funding year for which it submits an invoice to USAC and that invoices submitted from service providers for the costs of discounted eligible services do not exceed the amount that has been approved.

All of the requirements contained in this information collection are necessary to implement the congressional mandate for the schools and libraries universal service support program and reimbursement process.

Federal Communications Commission.
Marlene H. Dortch,
Secretary,
Office of the Secretary,
Office of Managing Director.

[FR Doc. 2010-2773 Filed 2-8-10; 8:45 am]

BILLING CODE 6712-01-S